DEPARTMENT OF AGRICULTURE

Natural Resources Conservation Service

Notice of Proposed Change to Section IV of the Field Office Technical Guide (FOTG) of the Natural Resources Conservation Service in Kentucky

AGENCY: Natural Resources Conservation Service (NRCS) in Kentucky, U.S. Department of Agriculture.

ACTION: Notice of availability of proposed changes in Section IV of the FOTG of the NRCS in Kentucky for review and comment.

SUMMARY: It is the intention of the NRCS in Kentucky to issue a revised conservation practice standard for: Nutrient Management (Code 590).

DATES: Comments will be received on or before February 5, 2001.

FOR FURTHER INFORMATION CONTACT: Inquire in writing to David G. Sawyer, State Conservationist, Natural Resources Conservation Service (NRCS), 771 Corporate Drive, Suite 110, Lexington, KY 40503-5479. Copies of the practice standards are made available upon written request. Persons with Internet capability may access the Kentucky NRCS homepage to obtain a copy of the revised 590 standard. The Internet address is http://www.ky.nrcs.usda.gov and click on Standards and Specifications.

SUPPLEMENTARY INFORMATION: Section 343 of the Federal Agriculture Improvement and Reform Act of 1996 states that revisions made after enactment of the law to NRCS State Technical Guides used to carry out highly erodible land and wetland provisions of the law shall be made available for public review and comment. For the next 30 days the NRCS in Kentucky will receive comments relative to the proposed changes. Following that period a determination will be made by the NRCS in Kentucky regarding deposition of those comments and a final determination of change will be made.

Dated: December 20, 2000.
David G. Sawyer,
State Conservationist, Natural Resources Conservation Service, Lexington, KY.

[FR Doc. 01-138 Filed 1-3-01; 8:45 am]

BILLING CODE 3410-16-M